NATIONAL AERONAUTICS AND SPACE ADMINISTRATION

[Notice 02-137]

Government-Owned Inventions, Available for Licensing

ACTION: Notice of availability of inventions for licensing.

SUMMARY: The invention listed below is assigned to the National Aeronautics and Space Administration, have been filed in the United States Patent and Trademark Office, and are available for licensing.

DATES: November 12, 2002.

FOR FURTHER INFORMATION CONTACT: Linda Blackburn, Patent Counsel, NASA Langley Research Center, Mail Code 212, Hampton, VA 23681-2199; telephone (757) 864-9260, fax (757) 864-9190.

NASA Case No. LAR-15602-2: Method For Simultaneously Making A Plurality Of Acoustic Signal Sensor Elements;

NASA Case No. LAR-15927-1: Improved Non-Destructive Evaluation Method Employing Dielectric Electrostatic Ultrasonic Transducers;

NASA Case No. LAR-16237-1: Reusable Module For The Storage, Transportation, And Supply Of Multiple Propellants In A Space Environment;

NASA Case No. LAR-16262-1: Non-Destructive Evaluation Of Wire Insulation And Coatings;

NASA Case No. LAR-16440-1: Non-Invasive Method Of Determining Diastolic Intracranial Pressure;

NASA Case No. LAR-16510-1: Non-Invasive Method Of Determining Absolute Intracranial Pressure.

Dated: November 4, 2002.
Robert M. Stephens,
Deputy General Counsel.

[FR Doc. 02-28565 Filed 11-8-02; 8:45 am]

BILLING CODE 7510-01-P